DEPARTMENT OF COMMERCE

International Trade Administration

[A-401-806]

Stainless Steel Wire Rod From Sweden; Final Results of Expedited Sunset Review of Antidumping Duty Order

AGENCY: Import Administration, International Trade Administration, Department of Commerce.

ACTION: Notice of final results of expedited sunset review of antidumping duty order on stainless steel wire rod from Sweden.

SUMMARY: On August 1, 2003, the Department of Commerce (“the Department”) published the notice of initiation of a sunset review on stainless steel wire rod (“SSWR”) from Sweden. On the basis of notice of intent to participate and adequate substantive comments filed on behalf of domestic interested parties and inadequate response (in this case, no response) from respondent interested parties, we determined to conduct an expedited (120-day) review. As a result of this review, we find that revocation of the antidumping duty order would be likely to lead to continuation or recurrence of dumping at the levels listed below in the section entitled “Final Results of Review.”

EFFECTIVE DATE: December 10, 2003.

FOR FURTHER INFORMATION CONTACT: Julie Al-Saadawi or Martha Douthit, Office of Policy for Import Administration, International Trade Administration, U.S. Department of Commerce, 14th Street and Constitution Avenue, NW., Washington, DC, 20230; telephone: (202) 482-1930 or (202) 482-5050, respectively.

SUPPLEMENTARY INFORMATION:

Background

On August 1, 2003, the Department published the notice of initiation of a sunset review of the antidumping order on SSWR from Sweden pursuant to section 751(c) of the Tariff Act of 1930, as amended (the “Act”).¹ The Department received Notice of Intent to Participate on behalf of Carpenter Technology Corporation (“domestic interest parties”), within the deadline specified in section 351.218(d)(1)(i) of the Sunset Regulations. The domestic interested parties claimed interested party status under Section 771(9)(C) of the Act, as a U.S. producer of SSWR. We received a complete substantive response, in the sunset review, from the domestic interested parties, within the 30-day deadline specified in the Sunset Regulations under section 351.218(d)(3)(i). The domestic interested parties have been involved in this proceeding since its inception and are committed to full participation in this five-year review.

¹ Initiation of Five-Year (Sunset) Reviews, 68 FR 45219 (August 1, 2003).

We did not receive a substantive response from any respondent interested parties to this proceeding. As a result, pursuant to Section 751(c)(3)(B) of the Act and 19 CFR 351.218(e)(1)(ii)(C) of the Department's Regulations, the Department conducted an expedited, 120-day, review of this antidumping duty order.

Scope of Review

Stainless steel wire rod (SSWR) comprises products that are hot-rolled or hot-rolled annealed and/or pickled and/or descaled rounds, squares, octagons, hexagons or other shapes, in coils, that may also be coated with a lubricant containing copper, lime or oxalate. SSWR is made of alloy steels containing, by weight, 1.2 percent or less of carbon and 10.5 percent or more of chromium, with or without other elements. These products are manufactured only by hot-rolling or hot-rolling, annealing, and/or pickling and/or descaling, are normally sold in coiled form, and are of solid cross-section. The majority of SSWR sold in the United States is round in cross-sectional shape, annealed and pickled, and later cold-finished into stainless steel wire or small-diameter bar. The most common size for such products is 5.5 millimeters or 0.217 inches in diameter, which represents the smallest size that normally is produced on a rolling mill and is the size that most wire-drawing machines are set up to draw. The range of SSWR sizes normally sold in the United States is between 0.20 inches and 1.312 inches diameter.

Two stainless steel grades, SF20T and K-M35FL, are excluded from the scope of this review. The following proprietary grades of Kanthal AB are also excluded: Kanthal A-1, Kanthal AF, Kanthal A, Kanthal D, Kanthal DT, Alkrothal 720, and Nikrothal 40. The chemical makeup for the excluded grades is as follows:

SF20T

Carbon—0.05 max

Manganese—2.00 max

Phosphorous—0.05 max

Sulfur—0.15 max

Silicon—1.00 max

Chromium—19.00/21.00

Molybdenum—1.50/2.50

Lead—added (0.10/0.30)

Tellurium—added (0.03 min)

K-M35FL

Carbon—0.015 max

Silicon—0.70/1.00

Manganese—0.40 max

Phosphorous—0.04 max

Sulfur—0.03 max

Nickel—0.30 max

Chromium—12.50/14.00

Lead—0.10/0.30

Aluminum—0.20/0.35

The products subject to this order are currently classifiable under subheadings 7221.00.0005, 7221.00.0015, 7221.00.0030, 7221.00.0045, and 7221.00.0075 of the Harmonized Tariff Schedule of the United States (“HTSUS”). Although the HTSUS subheadings are provided for convenience and customs purposes, the written description of the merchandise is dispositive. This review cover all imports from all manufacturers, producers, and exporters of SSWR from Sweden.

Analysis of Comments Received

All issues raised in this case by parties to this sunset review are addressed in the “Issues and Decision Memorandum” (“Decision Memo”) from Ronald K. Lorentzen, Acting Director, Office of Policy, Import Administration, to James J. Jochum, Assistant Secretary for Import Administration, dated December 1, 2003, which is hereby adopted by this notice. The issues discussed in the Decision Memo include the likelihood of continuation or recurrence of dumping and the magnitude of the margin likely to prevail were the order revoked. Parties can find a complete discussion of all issues raised in this review and the corresponding recommendations in this public memorandum, which is on file in room B-099 of the main Commerce Building.

In addition, a complete version of the Decision Memo can be accessed directly on the Web at http://ia.ita.doc.gov/sunset, under the heading “December 2003.” The paper copy and electronic version of the Decision Memorandum are identical in content.

Final Results of Review

We determine that revocation of the antidumping duty on SSWR from Sweden would be likely to lead to continuation or recurrence of dumping at the following percentage weighted-average margins:

Swedish producers/ manufacturers/exporters | Weighted average-margin (percentage)
Fagersta Stainless AB | 5.71
All Others | 5.71

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing this results and notice in accordance with sections 751(c), 752, and 777(i)(1) of the Act.

Dated: December 1, 2003.
James J. Jochum,
Assistant Secretary for Import Administration.

[FR Doc. 03-30624 Filed 12-9-03; 8:45 am]

BILLING CODE 3510-DS-P